DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76), dated October 14, 1980, and corrected at 45 FR 69296, October 20, 1980, as amended most recently at 69 FR 77756, dated December 28, 2004) is amended to reflect the establishment of the Office of the Chief Science Officer.

Section C-B, Organization and Functions, is hereby amended as follows:

Delete in its entirety the title and functional statement for the Office of Science Policy and Technology Transfer (CAE) and insert the following:

Office of the Chief Science Officer (CAS). The Chief Science Officer and staff provide CDC/ATSDR with scientific vision and leadership in science innovation, research, ethics, and science administration. Activities in support of the mission include: (1) Ensures stability and commitment to long-term scientific investments as the basis for achieving CDC's two overarching health protection goals; (2) provides coordination for the agency's public health research program, both for intramural and extramural research activities; (3) upholds scientific ideals, establishes an environment thriving with scientific excellence, innovation, integrity, learning and discovery, and timely dissemination and translation into practice of scientific information, innovations, and technology with the ultimate goal of improving public health; (4) facilitates developing strategic and trans-disciplinary approaches for long-term planning and evaluation of CDC's scientific enterprise and ensuring sustainability of CDC's scientific output, establishing and sustaining high-level national and global alliances and synergy, and a coordinated approach to providing scientific foundation for development of public health policies; (5) advises the CDC Director and Senior Staff on science matters and represents CDC in these areas to the Department, other agencies, and Congress; (6) develops and disseminates scientific policies for CDC/ATSDR; (7) maintains the integrity and productivity of CDC's scientists by resolving controversial scientific issues, supporting trailing and information exchange, and providing direction on matters of scientific integrity; (8) assures the protection of human subjects in public health research and participates in national and international initiatives in public health protection; (9) manages CDC's intellectual property (e.g., patents, trademarks, copyrights) and promotes the transfer of new technology from CDC research to the private sector to facilitate and enhance the development of diagnostic products, vaccines, and products to improve occupational safety; (10) manages the confidentiality function for sensitive research data; (11) facilitates the agency response to the Privacy Act, the Paperwork Reduction Act, HIPAA, and FERPA.

Revise the functional statement for the Management Analysis and Services Office (CAJ6), Office of the Chief Operating Officer (CAJ), by deleting item (1) and inserting the following: (1) Plans, coordinates, and provides CDC-wide management and information services in the following areas: policy development and consultation, studies and surveys, delegations of authorities, organizations and functions, records management, printing procurement and reproduction, and meeting management, forms design and management, publications distribution, mail services, public inquiries, information quality, and Federal advisory committee management.

Delete the items (7) and (8) of the functional statement for the Management Analysis and Policy Branch (CAJ64) and renumber the remaining items accordingly.

Dated: April 28, 2005.
William H. Gimson,
Chief Operating Officer, Centers for Disease Control and Prevention (CDC).

[FR Doc. 05-9539 Filed 5-12-05; 8:45 am]

BILLING CODE 4160-18-M